Title 3—

The President

Proclamation 7588 of August 31, 2002

National Days of Prayer and Remembrance, 2002

By the President of the United States of America

A Proclamation

As we remember the tragic events of September 11, 2001, and the thousands of innocent lives lost on that day, we recall as well the outpouring of compassion and faith that swept our Nation in the face of the evil done that day. In designating September 6-8 as National Days of Prayer and Remembrance, I ask all Americans to join together in cities, communities, neighborhoods, and places of worship to honor those who were lost, to pray for those who grieve, and to give thanks for God's enduring blessings on our land. And let us, through prayer, seek the wisdom, patience, and strength to bring those responsible for the attacks to justice and to press for a world at peace.

For the families and friends of those who died, each new day has required new courage. Their perseverance has touched us deeply, and their noble character has brought us hope. We stand with them in faith, and we cherish with them the memory of those who perished.

In the aftermath of the attacks, the words of the Psalms brought comfort to many. We trust God always to be our refuge and our strength, an ever-present help in time of trouble. Believing that One greater than ourselves watches over our lives and over this Nation, we continue to place our trust in Him.

The events of September 11 altered our lives, the life of this Nation, and the world. Americans responded to terror with resolve and determination, first recovering, now rebuilding, and, at all times, committing ourselves to protecting our people and preserving our freedom. And we have found hope and healing in our faith, families, and friendships. As we confront the challenges before us, I ask you to join me during these Days of Prayer and Remembrance in praying for God's continued protection and for the strength to overcome great evil with even greater good.

NOW, THEREFORE, I, GEORGE W. BUSH, President of the United States of America, by virtue of the authority vested in me by the Constitution and laws of the United States, do hereby proclaim Friday, September 6, through Sunday, September 8, 2002, as National Days of Prayer and Remembrance. I ask that the people of the United States and places of worship mark these National Days of Prayer and Remembrance with memorial services, the ringing of bells, and evening candlelight remembrance vigils. I invite the people of the world to share in these Days of Prayer and Remembrance.

IN WITNESS WHEREOF, I have hereunto set my hand this thirty-first day of August, in the year of our Lord two thousand two, and of the Independence of the United States of America the two hundred and twenty-seventh.

B

[FR Doc. 02-22779

Filed 9-4-02; 8:45 am]

Billing code 3195-01-P